DEPARTMENT OF HOMELAND SECURITY

Transportation Security Administration

Extension Agency Information Collection Activity Under OMB Review: Employment Standards

AGENCY: Transportation Security Administration (TSA), DHS.

ACTION: Notice.

SUMMARY: This notice announces that TSA has forwarded the Information Collection Request (ICR) abstracted below to the Office of Management and Budget (OMB) for review and approval of an extension of the currently approved collection under the Paperwork Reduction Act. The ICR describes the nature of the information collection and its expected burden. TSA published a Federal Register notice, with a 60-day comment period soliciting comments, of the following collection of information on December 16, 2005, 70 FR 74838.

DATES: Send your comments by April 10, 2006. A comment to OMB is most effective if OMB receives it within 30 days of publication.

ADDRESSES: Comments may be faxed to the Office of Information and Regulatory Affairs, Office of Management and Budget, Attention: DHS-TSA Desk Officer, at (202) 395-5806.

FOR FURTHER INFORMATION CONTACT: Katrina Wawer, Attorney-Advisor, Office of Chief Counsel, TSA-02, Transportation Security Administration, 601 South 12th Street, Arlington, VA 22202-4220.

SUPPLEMENTARY INFORMATION:

Comments Invited

In accordance with the Paperwork Reduction Act of 1995, (44 U.S.C. 3501 et seq.), an agency may not conduct or sponsor, and a person is not required to respond to a collection of information, unless it displays a valid OMB control number. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

Title: Employment Standards, 49 CFR parts 1542 and 1544.

Type of Request: Extension of a currently approved collection.

OMB Control Number: 1652-0006.

Forms(s): NA.

Affected Public: Airport and aircraft operators regulated under 49 CFR parts 1542 and 1544.

Abstract: Airport operators maintain records of compliance with part 1542 for those employees with access privileges to secure areas of the airport. Aircraft operators maintain records of compliance with part 1544 for selected crew and security employees. TSA civil aviation security inspectors review these records to ensure that the safety and security of the public is not compromised, to include using this information to take corrective action when necessary.

Number of Respondents: 1405.

Estimated Annual Burden Hours: An estimated 183,506 hours annually. The burden hour estimate reported in TSA's December 16, 2005 notice has been revised in light of the increased number of operators regulated under these parts.

Issued in Arlington, Virginia, on March 3, 2006.
Lisa S. Dean,
Privacy Officer.

[FR Doc. E6-3417 Filed 3-9-06; 8:45 am]

BILLING CODE 4910-62-P